DEPARTMENT OF TRANSPORTATION

Federal Aviation Administration

[Summary Notice No. PE-20001-34]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on April 30, 2001.
Donald P. Byrne,
Assistant Chief Counsel for Regulations.

Disposition of Petitions

Docket No: FAA-2001-9034.

Petitioner: Bombardier Aerospace, Inc.

Section of 14 CFR Affected: 14 CFR 25.1435(b)(1).

Description of Relief Sought/Disposition: To permit type certification of the Model BD-100-1A10 by conducting applicable testing specified in accordance with (1) hydraulic system components, lines, and installation are individually tested to 1.5 times the design operating pressure as part of qualifications tests, and (2) the complete hydraulic system is functionally tested on the airplane over the range of motion of all associated user systems at the system relief pressure setting of 3,400 psid. Partial Grant, 04/18/2001, Exemption No. 7508.

Docket No.: FAA-2001-8866.

Petitioner: Celsius Aerotech, Inc.

Section of 14 CFR Affected: 14 FR 145.45(f).

Description of Relief Sought/Disposition: To permit Celsius to establish and maintain a number of fixed locations within Celsius for the repair station Inspection Procedures Manual (IPM) and to assign IPM's to key individuals within departments. Grant, 04/10/2001, Exemption No. 6657B.

Docket No.: FAA-2001-9091 (previously Docket No. 29479).

Petitioner: Skydive U, Inc. formerly known as Skydive Utah, Inc.

Section of 14 CFR Affected: 14 CFR 105.43(a).

Description of Relief Sought/Disposition: To permit SUI's nonstudent foreign nationals to participate in SUI-sponsored parachute jumping events held at SUI's facilities without complying with the parachute equipment and packing requirement of § 105.43(a). Grant, 04/10/2001, Exemption No. 6928A.

Docket No.: FAA-2001-8741 (previously Docket No. 29218).

Petitioner: Cessna Aircraft Company.

Section of 14 CFR Affected: 14 CFR 91.409(b).

Description of Relief Sought/Disposition: To permit owners and operators of Cessna Model 172R, 172S, and 182S (C-172R, C-172S, and C-182S, respectively) airplanes to use Cessna's PhaseCard Inspection Program rather than completing the required 100-hour inspection. Grant, 04/10/201, Exemption No. 6901B.

Docket No.: 29975

Petitioner: Express Airlines I, Inc.

Section of 14 CFR Affected: 14 CFR 121.434(c)(1)(ii).

Description of Relief Sought/Disposition: To permit Express to substitute a qualified and authorized check airman in place of an FAA inspector to observe a qualifying pilot in command who is completing initial or upgrade training specified in § 121.424 during at least one flight leg that includes a takeoff and a landing. Grant, 04/12/2001, Exemption No. 7504.

Docket No.: FAA-2001-8877.

Petitioner: Piedmont Aviation Services, Inc.

Section of 14 CFR Affected: 14 CFR 25.857(c), and 25.858, 121.314(c).

Description of Relief Sought/Disposition: To permit two Boeing Model 737-200 airplanes to operate from March 20, 2001, until September 15, 2001, without being fitted with fire suppression equipment. Denial, 03/13/2001, Exemption No. 7457.

Docket No.: FAA-2000-8492.

Petitioner: The Boeing Company.

Section of 14 CFR Affected: 14 CFR 25.1435(b)(1).

Description of Relief Sought/Disposition: To permit amended type certification of the Boeing Models 777-200LR and 777-300ER by conducting a 3400 psig (the system relief pressure) test of the modified or added hydraulic tubing runs and any rerouted sections while verifying that adequate clearances exist. Partial Grant, 03/28/2001, Exemption No. 7478.

[FR Doc. 01-11259 Filed 5-3-01; 8:45 am]

BILLING CODE 4910-13-M